DEPARTMENT OF DEFENSE

Defense Acquisition Regulations System

48 CFR Parts 212, 219, and 252

[Docket DARS-2018-0035]

RIN 0750-AJ21

Defense Federal Acquisition Regulation Supplement: Inapplicability of Certain Laws and Regulations to Commercial Items (DFARS Case 2017-D010); Reopening of Comment Period

AGENCY: Defense Acquisition Regulations System, Department of Defense (DoD).

ACTION: Proposed rule; reopening of comment period.

SUMMARY: DoD is proposing to amend the Defense Federal Acquisition Regulation Supplement (DFARS) to implement sections of the National Defense Authorization Act for Fiscal Year 2017 that addresses the inapplicability of certain laws and regulations to the acquisition of commercial items, including commercially available off-the-shelf items. The comment period on the proposed rule is reopened for 60 days.

DATES: For the proposed rule published on June 29, 2018 (83 FR 30646), submit comments by October 28, 2018.

ADDRESSES: Submit comments identified by DFARS Case 2017-D010, using any of the following methods:

○ Federal eRulemaking Portal: http://www.regulations.gov. Search for “DFARS Case 2017-D010.” Select “Comment Now” and follow the instructions provided to submit a comment. Please include “DFARS Case 2017-D010” on any attached documents.

○ Email: osd.dfars@mail.mil. Include DFARS Case 2017-D010 in the subject line of the message.

○ Fax: 571-372-6094.

○ Mail: Defense Acquisition Regulations System, Attn: Ms. Barbara J. Trujillo, OUSD(D&S)DPC/DARS, Room 3B941, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Ms. Barbara J. Trujillo, telephone 571-372-6102.

SUPPLEMENTARY INFORMATION:

I. Background

On June 29, 2018, DoD published a proposed rule in the Federal Register at 83 FR 30646 to implement the requirement of section 874 of the National Defense Authorization Act for Fiscal Year 2017 (Pub. L. 114-328). Section 874 requires DoD to address the inapplicability of certain laws and regulations to the acquisition of commercial items, including commercially available off-the-shelf items.

The comment period for the proposed rule is reopened 60 days, from August 28, 2018, to October 28, 2018, to provide additional time for interested parties to comment on the proposed DFARS changes.

48 CFR Parts 212, 219, and 252

Government procurement.

Jennifer Lee Hawes,
Regulatory Control Officer, Defense Acquisition Regulations System.

[FR Doc. 2018-18616 Filed 8-28-18; 8:45 am]

BILLING CODE 5001-06-P